NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 29, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-9, 2 items, 2 temporary items). Records relating to the Global Freight Management System, an electronic recordkeeping system which contains information relating to the procurement of commercial freight transportation services. Included are proposals, master reference files, freight tenders, domestic route order requests, bills of lading shipment information, carrier costing and performance data, and discrepancy reports. This schedule authorizes the agency to apply the proposed disposition instructions to any recordkeeping medium.

2. Department of Health and Human Services, Food and Drug Administration (N1-88-03-4, 12 items, 11 temporary items). Export program files, including such records as applications, notifications, requests, certificates, background documentation concerning exporting firms, procedures and instructions for export processing, and a related tracking system. Also included are electronic copies of records created using electronic mail and word processing. Proposed for permanent retention are recordkeeping copies of final policy documents, which include decision-making memorandums, final working group reports, and action items.

3. Department of Justice, Drug Enforcement Administration (N1-170-03-6, 1 item, 1 temporary item). Agency internal web site pages, which include copies of such materials as publications, policies and procedures, articles relating to law enforcement, reference material relating to trends in drug trafficking, high level briefings, frequently asked questions, staff telephone numbers, and information about occupational hazards.

4. Department of Justice, Federal Bureau of Investigation (N1-65-03-3, 2 items, 2 temporary items). Forfeiture administrative documentation and work papers accumulated by the Forfeiture and Seized Property Unit in connection with civil and criminal forfeiture proceedings. Also included are electronic copies of documents created using word processing and electronic mail.

5. Department of the Navy, Agency-wide, (N1-NU-03-2, 10 items, 10 temporary items). Records relating to law enforcement and physical security. Included are such records as security journals, weapons registrations, inventory control files, and ammunition stock records. Also included are electronic copies of records created using electronic mail and word processing.

6. Department of the Navy, Agency-wide, (N1-NU-03-3, 4 items, 4 temporary items). Records relating to nuclear submarine reactors. Included are logs, reports, and similar records. Also included are electronic copies of records created using electronic mail and word processing.

7. Department of the Treasury, United States Mint (N1-104-03-5, 9 items, 8 temporary items). Management studies relating to the acquisition of contracted commercial services and special procurement studies and files. Also included are electronic copies of records created using electronic mail and word processing. Proposed for permanent retention are recordkeeping copies of agreements relating to the purchase of gold and other metals for coin production.

8. Department of the Treasury, United States Mint (N1-104-03-6, 8 items, 8 temporary items). Documentation relating to permit applications, hazardous substance transfer files, and reports concerning environmental matters. Also included are electronic copies of documents created using electronic mail and word processing.

9. Department of the Treasury, United States Mint (N1-104-03-9, 5 items, 5 temporary items). Master files and system documentation associated with the agency's Computerized Maintenance Management System. The system is used to manage maintenance and repair operations and inventories. Also included are electronic copies of records created using electronic mail and word processing.

10. Department of the Treasury, Financial Management Service (N1-425-03-4, 30 items, 30 temporary items). Files of the Business and Agency Liaison Division, including such records as electronic mail reading files, the director's subject files, agency portfolios, Treasury reports on receivables, inputs, outputs, system documentation, and master files of the Debt Management Information System, business continuity planning files, and human capital management records. Also included are electronic copies of records created using electronic mail and word processing.

11. Department of the Treasury, Financial Management Service (N1-425-03-5, 3 items, 3 temporary items). Records relating to collecting payments and servicing mortgages from the sale of Government property. Included are correspondence, loan activity reports, disbursement information, mortgage amortization schedules, and mortgage payment distribution reports. Also included are electronic copies of documents created using electronic mail and word processing.

12. National Archives and Records Administration, Government-wide (N1-GRS-03-2, 4 items, 4 temporary items). Addition to General Records Schedule 1, Civilian Personnel Records, consisting of general files and case files relating to agency alternative dispute resolution programs. Also included are electronic copies of records created using electronic mail and word processing.

13. U.S. Maritime Administration, Associate Administrator for Administration (N1-357-03-1, 3 items, 3 temporary items). Operational differential subsidy bulk and linear files, which include contract agreements, expense audits, wage audits, paid vouchers, directives, and correspondence from subsidized companies. Also included are electronic copies of documents created using electronic mail and word processing.

Dated: August 11, 2003.
Michael J. Kurtz,
Assistant Archivist for Record Services—Washington, DC.

[FR Doc. 03-20858 Filed 8-14-03; 8:45 am]

BILLING CODE 7515-01-P